DEPARTMENT OF TRANSPORTATION

Office of the Secretary

[Order 2000-2-1; Docket OST-99-5798]

Application of Cardinal Airlines, Inc. for Issuance of New Certificate Authority

AGENCY: Department of Transportation

ACTION: Notice of Order to Show Cause.

SUMMARY: The Department of Transportation is directing all interested persons to show cause why it should not issue an order (1) finding Cardinal Airlines, Inc., fit, willing, and able, and (2) awarding it a certificate to engage in interstate scheduled air transportation of persons, property, and mail.

DATES: Persons wishing to file objections should do so no later than February 17, 2000.

ADDRESSES: Objections and answers to objections should be filed in Docket OST-99-5798 and addressed to Department of Transportation Dockets (SVC-124, Room PL-401), 400 Seventh Street, SW, Washington, DC 20590 and should be served upon the parties listed in Attachment A to the order.

FOR FURTHER INFORMATION CONTACT: Ms. Janet A. Davis, Air Carrier Fitness Division (X-56, Room 6401), U.S. Department of Transportation, 400 Seventh Street, SW, Washington, DC 20590, (202) 366-9721.

Dated: February 1, 2000.
Robert S. Goldner,
Acting Deputy Assistant Secretary for Aviation and International Affairs.

[FR Doc. 00-2677 Filed 2-4-00; 8:45 am]

BILLING CODE 4910-62-U